COMMODITY FUTURES TRADING COMMISSION

Agency Information Collection Activities Under OMB Review

AGENCY: Commodity Futures Trading Commission.

ACTION: Notice.

SUMMARY: In compliance with the Paperwork Reduction Act of 1995 (“PRA”), this notice announces that the Information Collection Request (“ICR”) abstracted below has been forwarded to the Office of Management and Budget (“OMB”) for review and comment. The ICR describes the nature of the information collection and its expected costs and burden.

DATES: Comments must be submitted on or before August 28, 2015.

ADDRESSES: Comments regarding the burden estimated or any other aspect of the information collection, including suggestions for reducing the burden, may be submitted directly to the Office of Information and Regulatory Affairs, Office of Management and Budget, Attention: Desk Officer for the Commodity Futures Trading Commission, 725 17th Street NW., Washington, DC 20503, within 30 days of the notice's publication, or by email at OIRAsubmissions@omb.eop.gov. Please identify the comments by OMB Control No. 3038-0021. Please provide the Commission with a copy of all submitted comments at the address listed below. Please refer to OMB Reference No. 3038-0021, found on http://reginfo.gov. Comments may also be sent through the Agency's Web site at http://comments.cftc.gov. Follow the instructions for submitting comments through the Web site.

Comments may also be mailed to: Christopher Kirkpatrick, Secretary of the Commission, Commodity Futures Trading Commission, Three Lafayette Centre, 1155 21st Street NW., Washington, DC 20581, by Hand Deliver/Courier at the same address, or to the Federal eRulemaking Portal: http://www.regulations.gov/.

A copy of the supporting statements for the collection of information discussed above may be obtained by visiting RegInfo.gov. All comments must be submitted in English, or if not, accompanied by an English translation. Comments will be posted as received to http://www.cftc.gov.

FOR FURTHER INFORMATION CONTACT: Robert Wasserman, Chief Counsel, Division of Clearing and Risk, Commodity Futures Trading Commission, (202) 418-5092; email: rwasserman@cftc.gov, and refer to OMB Control No. 3038-0021.

SUPPLEMENTARY INFORMATION: This is a request for an extension of a previously approved collection—Extension.

Title: Regulations Governing Bankruptcies of Commodity Brokers (OMB Control No. 3038-0021).

Abstract: This collection of information involves recordkeeping and notice requirements in the Commodity Futures Trading Commission's (“CFTC” or “Commission”) bankruptcy rules for commodity broker liquidations, 17 CFR part 190. These requirements are intended to facilitate the effective, efficient, and fair conduct of liquidation proceedings for commodity brokers and to protect the interests of customers in these proceedings.

Burden Statement: Commodity broker liquidations occur at unpredictable and irregular intervals; for purposes of estimating information collection burden, this notice assumes an average of one commodity broker liquidation every three years. The CFTC further notes that the information collection burden will vary in particular commodity broker liquidations depending on the size of the commodity broker, the extent to which accounts are able to be quickly transferred, and other factors specific to the circumstances of the liquidation. The Commission estimates the average burden of this collection of information as follows:

• Rule 190.02(a)(1)

Estimated Respondents or Recordkeepers per Year: 0.33.

Estimated Reports Annually per Respondent or Recordkeeper: 2.

Estimated Hours per Response: 0.5.

Estimated Total Hours per Year: 0.33.

• Rule 190.02(a)(2)

Estimated Respondents or Recordkeepers per Year: 0.33.

Estimated Reports Annually per Respondent or Recordkeeper: 1.

Estimated Hours per Response: 2.

Estimated Total Hours per Year: 0.67.

• Rule 190.02(b)(1)

Estimated Respondents or Recordkeepers per Year: 0.33.

Estimated Reports Annually per Respondent or Recordkeeper: 4.

Estimated Hours per Response: 1.

Estimated Total Hours per Year: 1.32.

• Rule 190.02(b)(2)

Estimated Respondents or Recordkeepers per Year: 0.33.

Estimated Reports Annually per Respondent or Recordkeeper: 10,000.

Estimated Hours per Response: 0.1.

Estimated Total Hours per Year: 330.

• Rule 190.02(b)(3)

Estimated Respondents or Recordkeepers per Year: 0.05 (rarely if ever occurs).

Estimated Reports Annually per Respondent or Recordkeeper: 10,000.

Estimated Hours per Response: 0.2.

Estimated Total Hours per Year: 100.

• Rule 190.02(b)(4)

Estimated Respondents or Recordkeepers per Year: 0.33.

Estimated Reports Annually per Respondent or Recordkeeper: 10,000.

Estimated Hours per Response: 0.2.

Estimated Total Hours per Year: 660.

• Rule 190.02(c)

Estimated Respondents or Recordkeepers per Year: 0.33.

Estimated Reports Annually per Respondent or Recordkeeper: 10.

Estimated Hours per Response: 10.

Estimated Total Hours per Year: 33.

• Rule 190.03(a)(1)

Estimated Respondents or Recordkeepers per Year: 0.33.

Estimated Reports Annually per Respondent or Recordkeeper: 20,000.

Estimated Hours per Response: 0.01.

Estimated Total Hours per Year: 66.

• Rule 190.03(a)(2)

Estimated Respondents or Recordkeepers per Year: 0.33.

Estimated Reports Annually per Respondent or Recordkeeper: 20,000.

Estimated Hours per Response: 0.02.

Estimated Total Hours per Year: 132.

• Rule 190.04(b)

Estimated Respondents or Recordkeepers per Year: 0.33.

Estimated Reports Annually per Respondent or Recordkeeper: 40,000.

Estimated Hours per Response: 0.01.

Estimated Total Hours per Year: 132.

• Rule 190.06(b)

Estimated Respondents or Recordkeepers per Year: 0.33.

Estimated Reports Annually per Respondent or Recordkeeper: 1.

Estimated Hours per Response: 1.

Estimated Total Hours per Year: 0.33.

• Rule 190.06(d)

Estimated Respondents or Recordkeepers per Year: 125.

Estimated Reports Annually per Respondent or Recordkeeper: 1000.

Estimated Hours per Response: 0.05.

Estimated Total Hours per Year: 6250.

• Rule 190.10(c)

Estimated Respondents or Recordkeepers per Year: 125.

Estimated Reports Annually per Respondent or Recordkeeper: 1000.

Estimated Hours per Response: 0.05.

Estimated Total Hours per Year: 6250.

There are estimated to be no capital costs or operating and maintenance costs associated with this collection.

Authority: 44 U.S.C. 3501 et seq.

Dated: July 24, 2015.
Robert N. Sidman,
Deputy Secretary of the Commission.

[FR Doc. 2015-18574 Filed 7-28-15; 8:45 am]

BILLING CODE 6351-01-P